DEPARTMENT OF LABOR

Employment and Training Administration

[TA-W-40,488 and NAFTA-5512]

Sunbrand, A Division of Willcox and Gibbs, Inc., Norcross, GA; Dismissal of Application for Reconsideration

Pursuant to 29 CFR 90.18(C) an application for administrative reconsideration was filed with the Director of the Division of Trade Adjustment Assistance for workers at Sunbrand, a Division of Willcox and Gibbs, Inc., Norcross, Georgia. The application contained no new substantial information which would bear importantly on the Department's determination. Therefore, dismissal of the application was issued.

TA-W-40,488 & NAFTA-5512; Sunbrand, a Division of Willcox and Gibbs, Inc., Norcross, Georgia (April 11, 2002)

Signed at Washington, DC this 11th day of April, 2002.
Edward A. Tomchick,
Director, Division of Trade Adjustment Assistance.

[FR Doc. 02-9760 Filed 4-19-02; 8:45 am]

BILLING CODE 4510-30-M